ENVIRONMENTAL PROTECTION AGENCY

[EPA-HQ-ORD-2007-0484; FRL-8582-2]

Board of Scientific Counselors, National Center for Environmental Research (NCER) Standing Subcommittee Meeting—2008

AGENCY: Environmental Protection Agency (EPA).

ACTION: Notice of Cancellation of Meeting.

SUMMARY: The Environmental Protection Agency, Office of Research and Development (ORD), announces the cancellation of a meeting of the Board of Scientific Counselors (BOSC) National Center for Environmental Research (NCER) Standing Subcommittee. This meeting, a teleconference June 24, 2008, was announced in a Federal Register Notice published on Friday, May 30, 2008 (Volume 73, Number 105, page 31116). The purpose of this meeting was to discuss the subcommittee's draft letter report and NCER's next charge question(s), and it will be rescheduled at a later date.

FOR FURTHER INFORMATION CONTACT: The Designated Federal Officer via mail at: Susan Peterson, Mail Code 8104-R, Office of Science Policy, Office of Research and Development, Environmental Protection Agency, 1200 Pennsylvania Avenue, NW., Washington, DC 20460; via phone/voice mail at: (202) 564-1077; via fax at: (202) 565-2911; or via e-mail at: peterson.susan@epa.gov.

Dated: June 12, 2008.
Mary Ellen Radzikowski,
Acting Director, Office of Science Policy.

[FR Doc. E8-13825 Filed 6-17-08; 8:45 am]

BILLING CODE 6560-50-P